NATIONAL SCIENCE FOUNDATION

Notice of Intent To Prepare a Programmatic Environmental Impact Statement/Overseas Environmental Impact Statement for the National Science Foundation To Address Potential Impacts on the Marine Environment Related to the Use of Seismic Sources in Support of NSF-Funded Research by U.S. Academic Scientists.

AGENCY: National Science Foundation.

ACTION: Notice.

SUMMARY: Pursuant to section 102(2)(c) of the National Environmental Policy Act (NEPA) of 1969, as implemented by the Council on Environmental Quality regulations (40 CFR parts 1500-1508), the National Science Foundation (NSF) announces its intent to prepare a Programmatic Environmental Impact Statement/Overseas Environmental Impact Statement (EIS/OES) to evaluate the potential environmental impacts associated with the use of seismic sources in support of NSF-funded research by U.S. academic scientists. The National Marine Fisheries Service (NMFS), a part of the National Oceanic and Atmospheric Administration, is being invited to be a cooperating agency in the preparation of the Programmatic EIS/OES.

Publication of this notice begins the official scoping process that will help identify alternatives and determine the scope of environmental issues to be addressed in the Programmatic EIS/OEIS. This notice requests public participation in the scoping process and provides information on how to participate.

ADDRESSES AND DATES: Public-scoping meetings will be held at the following dates, times, and locations:

1. Wednesday, October 5, 2005, 1-5 p.m., Silver Spring Metro Center Building 4, Science Center, 1301 East-West Highway, Silver Spring, MD;

2. Thursday, October 6, 2005, 5-9 p.m., J. Erick Jonhhon Center of the National Academy of Sciences, Carriage House, 314 Quissett Avenue, Woods Hole, MA;

3. Wednesday, October 12, 2005, 5-9 p.m., Room C126, 1000 Discovery Drive, Texas A&M University, College Station, TX;

4. Friday, October 14, 2005, 5-9 p.m., Egan Civic and Convention Center, 555 West Fifth Avenue, Anchorage, AK;

5. Monday, October 17, 2005, 5-9 p.m., 100 Vaughn Hall, Discovery Way, Scripps Institution of Oceanography, La Jolla, CA; and

6. Wednesday, October 19, 2005, 5-9 p.m., Ala Moana Hotel, 410 Atkinson Drive, Honolulu, HI.

Written comments will be accepted at these meetings as well as during the scoping period, and can be mailed to NSF by October 28, 2005 (see FOR FURTHER INFORMATION CONTACT).

FOR FURTHER INFORMATION CONTACT: Written statements and questions regarding the scoping process should be mailed to Dr. Alexander Shor, Program Director, Oceanographic Instrumentation and Technical Services, Division of Ocean Sciences, National Science Foundation, 4201 Wilson Boulevard, Suite 725, Arlington, VA 22230; voice (703) 292-8583 or e-mail at OCE-EIS@nsf.gov.

SUPPLEMENTARY INFORMATION: In the last 2 years, NSF has prepared 16 environmental assessments (EAs) on the impact of seismic noise on endangered species and marine mammals during planned marine research projects concerning the geology and geophysics of the seafloor. The EAs were prepared for various worldwide, academic research cruises that required the use of various marine seismic sources. These EAs were intended to address regulations and public concern over anthropogenic noise in the marine environment and its possible, negative impacts on marine life. They were prepared to address U.S. laws and regulations, including NEPA; the Marine Mammal Protection Act of 1972 (MMPA); the endangered Species Act of 1973 (ESA); and Executive Order (EO) 12114 (1979), Environmental Effects Abroad of Major Federal Actions. In some cases they have also been used as background information to address foreign regulations, especially where research has been carried out entirely or partially within territorial waters or Exclusive Economic Zone waters surrounding a foreign nation.

In each case, the NSF EA and a Finding of No Significant Impact (FONSI) has been used as the basis for consultation with NMFS Office of Protected Resources (OPR) under Section 7(a)(2) of the ESA, and in each case for which an action is finalized, NMFS OPR has issued a Biological Opinion and a related Incidental Take Statement authorizing the proposed project to be undertaken, and indicating any mitigation measures needed to reduce impacts on endangered species. In parallel with this effort, a separate application has been submitted for each cruise to apply for an Incidental Harassment Authorization (IHA) under the MMPA from NMFS OPR, and an IHA has also been issued by NMFS for each of the projects. Increasingly over the past 2 years, public comments have expressed concern that by evaluating individual projects in isolation, the cumulative impacts of NSF-funded seismic activities on the marine environment are not being adequately addressed. NSF and NMFS OPR personnel have examined this concern and have concluded that a Programmatic EIS/OEIS could provide both the holistic view of cumulative impacts, as well as provide the principal technical and environmental foundation to form the basis of evaluating environmental impacts of most NSF-funded seismic efforts.

The Programmatic EIS/OEIS will take a view of the planned program as a whole and thereby assemble and analyze the broadest range of direct, indirect, and cumulative impacts associated with the entire program rather than assessing individual cruises separately. This approach will also address possible concerns that NSF is analyzing their research program in segments, rather than holistically where the true cumulative impacts of the entire program can be identified. Further, the parent Programmatic EIS/OEIS will provide a broad analytical backdrop within which NSF, using tiered documents, will be able to analyze cruise-specific issues relevant for analysis and decision. Additionally, it will streamline the preparation of subsequent environmental documents for the individual cruises and also enable NSF to identify any prudent conservation practices and mitigation measures that may be applied across the entire program. The site-specific information is required by NMFS (and sometimes the U.S. Fish and Wildlife Service) for purposes of preparing Biological Opinions and Incidental Take Statements required by ESA.

The main focus of the Programmatic EIS/OEIS will be on the seismic operations to be conducted from NSF's primary seismic ship, soon to be the R/V Marcus G. Langseth. The Programmatic EIS/OEIS will address the variety of airgun configurations to be operated from the Langseth, as well as the multi-beam bathymetric sonar, sub-bottom profiler, and other acoustic sources to be deployed as standard equipment. In addition, the Programmatic EIS/OEIS will deal with the generally small airgun sources occasionally operated from other vessels under NSF sponsorship.

Major environmental issues that will be addressed in the Programmatic EIS/OEIS include marine biological resources including Essential Fish Habitat (EFH), acoustic impacts to marine mammals, fish, sea turtles, invertebrates, and threatened and endangered species; cultural resources; human health and safety; socioeconomics and land use (i.e., commercial, private, and recreational uses of the marine environment); and water quality.

NSF is initiating this scoping process for the purpose of determining the extent of issues to be addressed and identifying the significant issues related to this action. NSF will hold public scoping meetings as identified in the DATES AND ADDRESSES section of this notice. These meetings will also be advertised in area newspapers. NSF and NMFS representatives will be available at these meetings to receive comments from the public regarding issues of concern to the public. Federal, state, and local agencies and interested individuals are encouraged to take this opportunity to identify environmental concerns that should be addressed during the preparation of the Programmatic EIS/OEIS. Agencies and the public are also invited and encouraged to provide written comments on scoping issues in addition to, or in lieu of, oral comments at the public meeting. To be most helpful, scoping comments should clearly describe issues or topics that the commenter believes the Programmatic EIS/OEIS should address.

We invite you to learn about the NSF seismic research program at an informational open house, and to assist NSF in defining the alternatives and the scope of environmental issues related to the seismic research program. All our public meeting locations are wheelchair-accessible. If you plan to attend a scoping meeting/open house, and need special assistance such as sign language interpretation or other reasonable accommodation, please notify NSF (see FOR FURTHER INFORMATION CONTACT) at least 3 business days in advance. Include your contact information as well as information about your specific needs.

We request public comments or other relevant information on environmental issues related to the NSF seismic research program. The public meetings are not the only opportunity you have to comment. In addition to or in place of attending a meeting, you can submit comments to Dr. Alexander Shor by October 28, 2005 (see FOR FURTHER INFORMATION CONTACT). We will consider all comments received during the comment period. We request that you include in your comments:

• Your name and address (especially if you would like to receive a copy of the Draft Programmatic EIS/OEIS upon completion);

• An explanation for each comment; and

• Include any background materials to support your comments as you feel necessary.

You may mail, e-mail, or hand deliver your comments to NSF (see FOR FURTHER INFORMATION CONTACT). All comment submissions must be unbound, no larger than 8½ by 11 inches, and suitable for copying and electronic scanning. Please note that regardless of the method used for submitting comments or material, all submissions will be publicly available and, therefore, any personal information you provide in your comments will be open for public review. In addition, if you wish to receive a copy of the Draft Programmatic EIS/OEIS, please indicate this in your comment. No decision will be made to implement any alternative until the NEPA process is completed.

Dated: September 19, 2005.
Alexander Shor,
Program Director, Division of Ocean Sciences, National Science Foundation.

[FR Doc. 05-18962 Filed 9-21-05; 8:45 am]

BILLING CODE 7555-01-M